DEPARTMENT OF AGRICULTURE

Forest Service

Caribou-Targhee National Forest, Westside Ranger District, Idaho Pocatello, Midnight, and Michaud Allotment Management Plan Revisions

AGENCY: Forest Service, USDA.

ACTION: Notice of intent to prepare an environmental impact statement.

SUMMARY: The USDA Forest Service will prepare an Environmental Impact Statement (EIS) to disclose environmental effects to authorize livestock grazing on all or portions of the Pocatello, Midnight, and Michaud allotments. The project area is within the Portneuf River and American Falls Subbasins. The project area is 10 miles south of Pocatello, Idaho and encompasses 43,200 acres of the National Forest Systems Lands administered by the Westside Ranger District, Caribou-Targhee National Forest.

DATES: “Comments concerning the scope of the analysis must be received by February 14, 2014. The draft environmental impact statement is expected June 2014 and the final impact statement is expected December 2014.

ADDRESSES: Send written comments to District Ranger Jeffery Hammes, Westside Ranger District, 4350 Cliffs Drive, Pocatello, ID 83204. Comments may also be sent via email to [comments-intermtn-caribou-targhee-westside@fs.fed.us>], or via facsimile to 208-236-7555.

FOR FURTHER INFORMATION CONTACT: Heidi Heyrend, Rangeland Management Specialist, 1405 Hollipark Drive, Idaho Falls, Idaho 83401. Telephone: 208 524-7500, email hheyrend@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to reauthorize livestock grazing in a manner that maintains and/or moves the area toward Forest Plan objectives and desired conditions. The previous AMPs were completed in 1992. Since that time, the following have occurred: The Forest Plan was revised in 2003; Term Grazing Permits were modified with the Forest Plan Grazing Management riparian and upland forage utilization standards in 2005; and Lower Portneuf Watershed Analysis (LPWA) was completed and included revised management recommendations as well as identified areas not meeting Forest Plan Desired Condition in 2010. There is a need for change from the current management as the allotments are not meeting or moving toward desired conditions in an acceptable timeframe. Specific desired conditions that are not being met include: riparian conditions, and water resource and quality, and recreation.

Proposed Action

The proposed action would reauthorize livestock grazing within the project area and would implement a grazing management strategy that would result in improvement of riparian, water quality, and aquatic resources, and reduces the recreation conflict. The allotment management plan outlines livestock management objectives, practices (including maximum amount of use to meet management objectives), structural and non-structural improvement necessary to meet management objectives, and a monitoring plan to determine whether management objectives are being met and adaptive management actions employed. The proposed actions includes direction for livestock grazing in riparian areas using the Caribou Riparian Grazing Implementation Guide (i.e. site-specific riparian grazing management standards); adjusted structural range improvements (i.e. fences and water development) to reduce the impacts to riparian areas and disperse recreation management prescription; and defines the adaptive management strategies to meet management objectives and practices.

Possible Alternatives

In addition to the proposed action, the no graze alternative was also identified to be analyzed in the environment analysis. “No grazing” means that the Forest Service would not reauthorize livestock grazing within the project area (FSH 2209.13-92.31). Permitted livestock grazing would be eliminated on the Pocatello, Midnight, and Michaud Allotments. The livestock grazing permits would be cancelled. In accordance with agency regulations (36 CFR 222.4), grazing would cease two years after the notice of cancellation. Current livestock management would continue during that two-year interval.

Responsible Official

The Westside District Ranger, Jeffery Hammes, will be the responsible official for making the decision and providing direction for the analysis.

Nature of Decision To Be Made

The responsible official will decide whether or not to re authorize livestock grazing within the Pocatello, Midnight, and Michaud Allotments. If livestock grazing is reauthorized, the responsible official will also decide on basic elements of an allotment management plan: livestock management objectives, practices (including maximum amount of use to meet management objectives), structural and non-structural improvements necessary to meet management objectives, and a monitoring plan to determine whether management objectives are being met and adaptive management measures needed.

Preliminary Issues

Preliminary issues identified include the rate of improvement on riparian and upland vegetation, aquatic resources, and recreation conflict use.

Scoping Process

This notice of intent initiates the official notice and comment period. Previous public scoping for this project occurred in December 2010.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: January 8, 2014.
Jeffery J. Hammes,
Westside District Ranger.

[FR Doc. 2014-00596 Filed 1-14-14; 8:45 am]

BILLING CODE 3410-11-P